DEPARTMENT OF HOMELAND SECURITY

Federal Emergency Management Agency

[Docket ID FEMA-2016-0002; Internal Agency Docket No. FEMA-B-1660]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: October 31, 2016.
Roy E. Wright,
Deputy Associate Administrator for Insurance and Mitigation, Department of Homeland Security, Federal Emergency Management Agency.

State and county | Location and case No. | Chief executive officer of community | Community map repository | Online location of letter of map revision | Effective date of modification | Community No.
Arkansas:
Drew | City of Monticello, (16-06-1501P) | The Honorable Zackery Tucker, Mayor, City of Monticello, P.O. Box 505, Monticello, AR 71655 | City Hall, 203 West Gaines Street, Monticello, AR 71655 | http://www.msc.fema.gov/lomc | Jan. 12, 2017 | 050074
Drew | Unincorporated areas of Drew County, (16-04-1501P) | The Honorable Robert Akin, Drew County Judge, 210 South Main Street, Monticello, AR 71655 | Drew County Courthouse, 210 South Main Street, Monticello, AR 71655 | http://www.msc.fema.gov/lomc | Jan. 12, 2017 | 050430
Colorado:
Broomfield | City and County of Broomfield, (16-08-1117P) | The Honorable Randy Ahrens, Mayor, City and County of Broomfield, 1 Des Combes Drive, Broomfield, CO 80020 | Engineering Department, 1 Des Combes Drive, Broomfield, CO 80020 | http://www.msc.fema.gov/lomc | Jan. 27, 2017 | 085073
El Paso | City of Colorado Springs, (16-08-0643P) | The Honorable John Suthers, Mayor, City of Colorado Springs, 30 South Nevada Avenue, Colorado Springs, CO 80903 | Pikes Peak Regional Building, 2880 International Circle, Colorado Springs, CO 80903 | http://www.msc.fema.gov/lomc | Dec. 23, 2016 | 080060
Jefferson | City of Arvada, (15-08-1159P) | The Honorable Marc Williams, Mayor, City of Arvada, P.O. Box 8101, Arvada, CO 80001 | Engineering Division, 8101 Ralston Road, Arvada, CO 80001 | http://www.msc.fema.gov/lomc | Jan. 27, 2017 | 085072
Jefferson | Unincorporated areas of Jefferson County, (15-08-1159P) | The Honorable Libby Szabo, Chair, Jefferson County, Board of Commissioners, 100 Jefferson County Parkway, Golden, CO 80419 | Jefferson County Planning and Zoning Division, 100 Jefferson County Parkway, Golden, CO 80419 | http://www.msc.fema.gov/lomc | Jan. 27, 2017 | 080087
Larimer | City of Fort Collins, (16-08-0420P) | The Honorable Wade Troxell, Mayor, City of Fort Collins, P.O. Box 580, Fort Collins, CO 80522 | Utilities Department, 700 Wood Street, Fort Collins, CO 80521 | http://www.msc.fema.gov/lomc | Jan. 5, 2017 | 080102
Connecticut: Fairfield | City of Stamford, (16-01-1994P) | The Honorable David Martin, Mayor, City of Stamford, 888 Washington Boulevard, Stamford, CT 06904 | City Hall, 888 Washington Boulevard, Stamford, CT 06904 | http://www.msc.fema.gov/lomc | Jan. 11, 2017 | 090015
Florida:
Charlotte | Unincorporated areas of Charlotte County, (16-04-6938P) | The Honorable Bill Truex, Chairman, Charlotte County Board of Commissioners, 18500 Murdock Circle, Port Charlotte, FL 33948 | Charlotte County Community Development Department, 18400 Murdock Circle, Port Charlotte, FL 33948 | http://www.msc.fema.gov/lomc | Jan. 26, 2017 | 120061
Collier | City of Marco Island, (16-04-6989P) | The Honorable Bob Brown, Chairman, City of Marco Island Council, 50 Bald Eagle Drive, Marco Island, FL 34145 | Building Department, 50 Bald Eagle Drive, Marco Island, FL 34145 | http://www.msc.fema.gov/lomc | Jan. 19, 2017 | 120426
Collier | City of Naples (16-04-6987P) | The Honorable Bill Barnett, Mayor, City of Naples, 735 8th Street South, Naples, FL 34102 | Building Department, 295 Riverside Circle, Naples, FL 34102 | http://www.msc.fema.gov/lomc | Jan. 19, 2017 | 125130
Duval | City of Jacksonville, (16-04-3215P) | The Honorable Lenny Curry, Mayor, City of Jacksonville, 117 West Duval Street, Suite 400, Jacksonville, FL 32202 | Development Services Division, 214 North Hogan Street, Suite 2100, Jacksonville, FL 32202 | http://www.msc.fema.gov/lomc | Dec. 30, 2016 | 120077
Duval | City of Jacksonville, (16-04-6041P) | The Honorable Lenny Curry, Mayor, City of Jacksonville, 117 West Duval Street, Suite 400, Jacksonville, FL 32202 | Development Services Division, 214 North Hogan Street, Suite 2100, Jacksonville, FL 32202 | http://www.msc.fema.gov/lomc | Dec. 22, 2016 | 120077
Duval | City of Jacksonville, (16-04-6150P) | The Honorable Lenny Curry, Mayor, City of Jacksonville, 117 West Duval Street, Suite 400, Jacksonville, FL 32202 | Development Services Division, 214 North Hogan Street, Suite 2100, Jacksonville, FL 32202 | http://www.msc.fema.gov/lomc | Jan. 11, 2017 | 120077
Lee | City of Sanibel, (16-04-5162P) | The Honorable Kevin Ruane, Mayor, City of Sanibel, 800 Dunlop Road, Sanibel, FL 33957 | Building Department, 800 Dunlop Road, Sanibel, FL 33957 | http://www.msc.fema.gov/lomc | Jan. 31, 2017 | 120402
Lee | City of Sanibel, (16-04-6547P) | The Honorable Kevin Ruane, Mayor, City of Sanibel, 800 Dunlop Road, Sanibel, FL 33957 | Building Department, 800 Dunlop Road, Sanibel, FL 33957 | http://www.msc.fema.gov/lomc | Jan. 26, 2017 | 120402
Lee | Unincorporated areas of Lee County, (16-04-7007P) | The Honorable Frank Mann, Chairman, Lee County Board of Commissioners, P.O. Box 398, Fort Myers, FL 33902 | Lee County Building Department, 1500 Monroe Street, Fort Myers, FL 33901 | http://www.msc.fema.gov/lomc | Jan. 23, 2017 | 125124
Monroe | City of Key West, (16-04-4726P) | The Honorable Craig Cates, Mayor, City of Key West, P.O. Box 1409, Key West, FL 33041 | Building Department, 3140 Flagler Avenue, Key West, FL 33040 | http://www.msc.fema.gov/lomc | Jan. 24, 2017 | 120168
Monroe | City of Key West, (16-04-6755P) | The Honorable Craig Cates, Mayor, City of Key West, P.O. Box 1409, Key West, FL 33041 | Building Department, 3140 Flagler Avenue, Key West, FL 33040 | http://www.msc.fema.gov/lomc | Jan. 19, 2017 | 120168
Monroe | Unincorporated areas of Monroe County, (16-04-7359P) | The Honorable Heather Carruthers, Mayor, Monroe County Board of Commissioners, 500 Whitehead Street, Suite 102, Key West, FL 33040 | Monroe County Building Department, 2798 Overseas Highway, Marathon, FL 33050 | http://www.msc.fema.gov/lomc | Jan. 20, 2017 | 125129
Orange | City of Orlando, (16-04-5876P) | The Honorable Buddy W. Dyer, Mayor, City of Orlando, P.O. Box 4990, Orlando, FL 32802 | Public Works Department, 400 South Orange Avenue, 8th Floor, Orlando, FL 32801 | http://www.msc.fema.gov/lomc | Jan. 20, 2017 | 120186
Orange | Unincorporated areas of Orange County, (16-04-2773P) | The Honorable Teresa Jacobs, Mayor, Orange County, 201 South Rosalind Avenue, 5th Floor, Orlando, FL 32801 | Orange County Stormwater Management Department, 4200 South John Young Parkway, Orlando, FL 32839 | http://www.msc.fema.gov/lomc | Jan. 23, 2017 | 120179
Osceola | Unincorporated areas of Osceola County, (16-04-2860P) | The Honorable Viviana Janer, Chair, Osceola County Board of Commissioners, 1 Courthouse Square, Suite 1400, Kissimmee, FL 34741 | Osceola County Community Development Department, 1 Courthouse Square, Suite 1100, Kissimmee, FL 34741 | http://www.msc.fema.gov/lomc | Jan. 20, 2017 | 120189
Louisiana: St. Tammany | City of Mandeville, (16-06-1792P) | The Honorable Donald J. Villere, Mayor, City of Mandeville, 3101 East Causeway Approach, Mandeville, LA 70448 | Planning Department, 3101 East Causeway Approach, Mandeville, LA 70448 | http://www.msc.fema.gov/lomc | Jan. 13, 2017 | 220202
Massachusetts:
Essex | Town of Manchester-by-the-Sea, (16-01-1155P) | The Honorable Eli G. Boling, Chairman, Town of Manchester-by-the-Sea, Board of Selectmen, 10 Central Street, Manchester-by-the-Sea, MA 01944 | Town Hall, 10 Central Street, Manchester-by-the-Sea, MA 01944 | http://www.msc.fema.gov/lomc | Jan. 2, 2017 | 250090
Suffolk | City of Boston, (16-01-1699P) | The Honorable Martin J. Walsh, Mayor, City of Boston, 1 City Hall Square, Suite 500, Boston, MA 02201 | Environment Department, 1 City Hall Square, Room 709, Boston, MA 02201 | http://www.msc.fema.gov/lomc | Jan. 6, 2017 | 250286
Mississippi:
Madison | City of Madison, (16-04-6373P) | The Honorable Mary Hawkins Butler, Mayor, City of Madison, P.O. Box 40 Madison, MS 39110 | Community Development Department, 1004 Madison Avenue, Madison, MS 39110 | http://www.msc.fema.gov/lomc | Jan. 20, 2017 | 280229
Madison | Pearl River Valley Water Supply District (16-04-6373P) | Mr. Jack Winstead, President, Pearl River Valley Water Supply District Board of Directors, 115 Madison Landing Circle, Ridgeland, MS 39158 | Building Department, 1864 Spillway Road, Brandon, MS 39047 | http://www.msc.fema.gov/lomc | Jan. 20, 2017 | 280338
Madison | Unincorporated areas of Madison County, (16-04-6373P) | The Honorable Trey Baxter, Chairman, Madison County Board of Supervisors, P.O. Box 608, Canton, MS 39046 | Madison County Planning and Zoning Department, 125 West North Street, Canton, MS 39046 | http://www.msc.fema.gov/lomc | Jan. 20, 2017 | 280228
New Hampshire:
Hillsborough | Town of Amherst, (16-01-1614P) | Mr. James M. O'Mara, Jr., Town Administrator, Town of Amherst, P.O. Box 960, Amherst, NH 03031 | Planning Department, 2 Main Street, Amherst, NH 03031 | http://www.msc.fema.gov/lomc | Jan. 13, 2017 | 330081
Hillsborough | Town of Hudson, (16-01-1111P) | The Honorable Rick Maddox, Chairman, Town of Hudson Board of Selectmen, 12 School Street, Hudson, NH 03051 | Town Hall, 12 School Street, Hudson, NH 03051 | http://www.msc.fema.gov/lomc | Jan. 19, 2017 | 330092
Oklahoma: Oklahoma | City of Oklahoma City, (16-06-1439P) | The Honorable Mick Cornett, Mayor, City of Oklahoma City, 200 North Walker Avenue, Oklahoma City, OK 73102 | Public Works Department, 420 West Main Street, Oklahoma City, OK 73102 | http://www.msc.fema.gov/lomc | Jan. 23, 2017 | 405378
Pennsylvania:
Adams | Township of Hamilton, (16-03-0904P) | The Honorable Stephanie Egger, Chair, Township of Hamilton Board of Supervisors, 272 Mummerts Church Road, Abbottstown, PA 17301 | Township Hall, 272 Mummerts Church Road, Abbottstown, PA 17301 | http://www.msc.fema.gov/lomc | Dec. 20, 2016 | 420002
Bucks | Borough of New Hope, (16-03-1928P) | Mr. John Burke, Manager, Borough of New Hope, 123 New Street, New Hope, PA 18938 | Borough Hall, 123 New Street, New Hope, PA 18938 | http://www.msc.fema.gov/lomc | Jan. 12, 2017 | 420195
Montgomery | Borough of Conshohocken, (16-03-0726P) | Mr. Richard J. Manfredi, Manager, Borough of Conshohocken, 400 Fayette Street, Conshohocken, PA, 19428 | Borough Administration Building, 400 Fayette Street, Conshohocken, PA 19428 | http://www.msc.fema.gov/lomc | Jan. 30, 2017 | 420949
Montgomery | Borough of West Conshohocken, (16-03-0726P) | The Honorable Joseph Pignoli, President, Borough of West Conshohocken Council, 112 Ford Street, Conshohocken, PA 19428 | Borough Hall, 112 Ford Street, Conshohocken, PA 19428 | http://www.msc.fema.gov/lomc | Jan. 30, 2017 | 420710
Montgomery | Township of Plymouth, (16-03-0726P) | Ms. Karen B. Weiss, Manager, Township of Plymouth, 700 Belvoir Road, Plymouth Meeting, PA 19462 | Township Hall, 700 Belvoir Road, Plymouth Meeting, PA 19462 | http://www.msc.fema.gov/lomc | Jan. 30, 2017 | 420955
York | Township of Lower Chanceford, (16-03-2040P) | The Honorable David Glenn, Chairman, Township of Lower Chanceford, Board of Supervisors, 4120 Delta Road, Airville, PA 17302 | Township Hall, 4120 Delta Road, Airville, PA 17302 | http://www.msc.fema.gov/lomc | Jan. 23, 2017 | 420930
York | Township of Peach Bottom, (16-03-2040P) | The Honorable Janet L. Wiley, Chair, Township of Peach Bottom Board of Supervisors, 6880 Delta Road, Delta, PA 17314 | Municipal Office Building, 6880 Delta Road, Delta, PA 17314 | http://www.msc.fema.gov/lomc | Jan. 23, 2017 | 422229
South Carolina: Charleston | City of Folly Beach, (16-04-6421P) | The Honorable Tim Goodwin, Mayor, City of Folly Beach, P.O. Box 48, Folly Beach, SC 29439 | Public Works Department, 21 Center Street, Folly Beach, SC 29439 | http://www.msc.fema.gov/lomc | Jan. 24, 2017 | 455415
Texas:
Bexar | City of San Antonio, (16-06-1641P) | The Honorable Ivy R. Taylor, Mayor, City of San Antonio, P.O. Box 839966, San Antonio, TX 78283 | Transportation and Capital Improvements Department, Stormwater Division, 1901 South Alamo Street, 2nd Floor, San Antonio, TX 78204 | http://www.msc.fema.gov/lomc | Jan. 11, 2017 | 480045
Bexar | Unincorporated areas of Bexar County, (16-06-2962P) | The Honorable Nelson W. Wolff, Bexar County Judge, 101 West Nueva Street, 10th Floor, San Antonio, TX 78205 | Bexar County Public Works Department, 233 North Pecos-La Trinidad Street, Suite 420, San Antonio, TX 78207 | http://www.msc.fema.gov/lomc | Jan. 11, 2017 | 480035
Collin | City of McKinney, (16-06-1250P) | The Honorable Brian Loughmiller, Mayor, City of McKinney, P.O. Box 517, McKinney, TX 75070 | Engineering Department, 221 North Tennessee Street, McKinney, TX 75069 | http://www.msc.fema.gov/lomc | Jan. 9, 2017 | 480135
Collin | City of McKinney, (16-06-1435P) | The Honorable Brian Loughmiller, Mayor, City of McKinney, P.O. Box 517, McKinney, TX 75070 | Engineering Department, 221 North Tennessee Street, McKinney, TX 75069 | http://www.msc.fema.gov/lomc | Jan. 2, 2017 | 480135
Collin | City of McKinney, (16-06-2050P) | The Honorable Brian Loughmiller, Mayor, City of McKinney, P.O. Box 517, McKinney, TX 75070 | Engineering Department, 221 North Tennessee Street, McKinney, TX 75069 | http://www.msc.fema.gov/lomc | Jan. 9, 2017 | 480135
Collin | Unincorporated areas of Collin County, (16-06-1435P) | The Honorable Keith Self, Collin County Judge, 2300 Bloomdale Road, Suite 4192, McKinney, TX 75071 | Collin County Engineering Department, 4690 Community Avenue, Suite 200, McKinney, TX 75071 | http://www.msc.fema.gov/lomc | Jan. 2, 2017 | 480130
Montgomery | City of Conroe, (16-06-2103P) | The Honorable Toby Powell, Mayor, City of Conroe, 300 West Davis Street, Conroe, TX 77301 | Public Works Department, 300 West Davis Street, Conroe, TX 77301 | http://www.msc.fema.gov/lomc | Jan. 19, 2017 | 480484
Tarrant | City of Fort Worth, (16-06-1438P) | The Honorable Betsy Price, Mayor, City of Fort Worth, 1000 Throckmorton Street, Fort Worth, TX 76102 | Transportation and Public Works Department, 1000 Throckmorton Street, Fort Worth, TX 76102 | http://www.msc.fema.gov/lomc | Jan. 19, 2017 | 480596
Tarrant | City of Fort Worth, (16-06-1735P) | The Honorable Betsy Price, Mayor, City of Fort Worth, 1000 Throckmorton Street, Fort Worth, TX 76102 | Transportation and Public Works Department, 1000 Throckmorton Street, Fort Worth, TX 76102 | http://www.msc.fema.gov/lomc | Jan. 26, 2017 | 480596
Virginia:
Rockingham | Unincorporated areas of Rockingham County, (16-03-2085P) | The Honorable William B. Kyger, Jr., Chairman, Rockingham County Board of Supervisors, 20 East Gay Street, Harrisonburg, VA 22802 | Rockingham County Administration Center, 20 East Gay Street, Harrisonburg, VA 22802 | http://www.msc.fema.gov/lomc | Dec. 23, 2016 | 510133
Independent City | City of Hampton, (16-03-1592P) | The Honorable Donnie R. Tuck, Mayor, City of Hampton, 22 Lincoln Street, Hampton, VA 23669 | Public Works Division, 22 Lincoln Street, Hampton, VA 23669 | http://www.msc.fema.gov/lomc | Jan. 17, 2017 | 515527

[FR Doc. 2016-28533 Filed 11-25-16; 8:45 am]

BILLING CODE 9110-12-P